DEPARTMENT OF COMMERCE

National Oceanic and Atmospheric Administration

RIN 0648-XF153

Marine Mammals; File No. 20043

AGENCY: National Marine Fisheries Service (NMFS), National Oceanic and Atmospheric Administration (NOAA), Commerce.

ACTION: Notice; receipt of application.

SUMMARY: Notice is hereby given that Whitlow Au, Ph.D., University of Hawaii, P.O. Box 1346, Kaneohe, HI 96744, has applied in due form for a permit to conduct research on marine mammals in Hawaii.

DATES: Written, telefaxed, or email comments must be received on or before February 16, 2017.

ADDRESSES: The application and related documents are available for review by selecting “Records Open for Public Comment” from the “Features” box on the Applications and Permits for Protected Species (APPS) home page, https://apps.nmfs.noaa.gov, and then selecting File No. 20043 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216), the Endangered Species Act of 1973, as amended (ESA; 16 U.S.C. 1531 et seq.), and the regulations governing the taking, importing, and exporting of endangered and threatened species (50 CFR 222-226).

The applicant requests a five-year permit to investigate the population dynamics and behavior of cetaceans around Hawaii and the Pacific, to study: (1) The behavior and use of the acoustic environment by large whales, and (2) the effects of noise on behavior of cetaceans around Hawaii. The applicant proposes to use genetic sampling, suction-cup acoustic recording tags, high frequency pinger tags, biopsy sampling, darted satellite tags, acoustic recording, underwater video recording, behavioral observation, photo-identification, and acoustic playbacks. Target species would be: Blainville's beaked whale (Mesoplodon densirostris), Cuvier's beaked whale (Ziphius cavirostris), killer whale (Orcinus orca), humpback whale (Megaptera novaeangliae), dwarf sperm whale (Kogia sima), pygmy sperm whale (K. breviceps), short-finned pilot whale (Globicephala macrorhynchus), false killer whale (Pseudorca crassidens), pygmy killer whale (Feresa attenuata), melon-headed whale (Peponocephala electra), short-beaked common dolphin (D. delphis), striped dolphin (Stenella coeruleoalba), spinner dolphin (S. longirostris), pantropical spotted dolphin (S. attenuata), bottlenose dolphin (Turisiops truncatus), Risso's dolphin (Grampus griseus), Pacific white-sided dolphin (Lagenorhynchus obliquidens), and rough-toothed dolphin (Steno bredanensis).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 11, 2017.
Julia Harrison,
Chief, Permits and Conservation Division, Office of Protected Resources, National Marine Fisheries Service.

[FR Doc. 2017-00802 Filed 1-13-17; 8:45 am]

BILLING CODE 3510-22-P